COMMITTEE FOR PURCHASE FROM PEOPLE WHO ARE BLIND OR SEVERELY DISABLED

Procurement List Proposed Addition and Deletions

AGENCY: Committee for Purchase From People Who Are Blind or Severely Disabled.

ACTION: Proposed addition to and deletions from the Procurement List.

SUMMARY: The Committee is proposing to add a service to the Procurement List that will be furnished by a nonprofit agency employing persons who are blind or have other severe disabilities and to delete services previously provided by such agencies.

Comments Must be Received on or Before: September 19, 2011.

ADDRESSES: Committee for Purchase From People Who Are Blind or Severely Disabled, Jefferson Plaza 2, Suite 10800, 1421 Jefferson Davis Highway, Arlington, Virginia, 22202-3259.

FOR FURTHER INFORMATION CONTACT: Patricia Briscoe, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Addition

If the Committee approves the proposed addition, the entities of the Federal Government identified in this notice will be required to procure the service listed below from the nonprofit agency employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will provide the service to the Government.

2. If approved, the action will result in authorizing small entities to provide the service to the Government.

3. There are no known regulatory alternatives which would accomplish the objectives of the Javits-Wagner-O'Day Act (41 U.S.C. 46-48c) in connection with the service proposed for addition to the Procurement List.

Comments on this certification are invited. Commenters should identify the statement(s) underlying the certification on which they are providing additional information.

End of Certification

The following service is proposed for addition to Procurement List for production by the nonprofit agency listed:

Service

Service Type/Location: Distribution of USCG Promotional Materials, Coast Guard Recruiting Command, Washington DC (Off Site: 445 S. Curtis Rd., West Allis, WI).

NPA: Industries for the Blind, Inc., West Allis, WI.

Contracting Activity: DEPARTMENT OF HOMELAND SECURITY, U.S. COAST GUARD, HQ CONTRACT OPERATIONS (CG-912), WASHINGTON, DC.

Deletions

Regulatory Flexibility Act Certification

I certify that the following action will not have a significant impact on a substantial number of small entities. The major factors considered for this certification were:

1. If approved, the action will not result in additional reporting, recordkeeping or other compliance requirements for small entities.

2. If approved, the action may result in authorizing small entities to provide the services to the Government.

3. There are no known regulatory alternatives which would accomplish the objectives of the Javits-Wagner-O'Day Act (41 U.S.C. 46-48c) in connection with the services proposed for deletion from the Procurement List.

End of Certification

The following services are proposed for deletion from the Procurement List:

Services

Service Type/Locations: Administrative Services, Department of Agriculture: Rural Development Agency USDA. St. Louis, MO

NPA: St. Vincent DePaul Rehabilitation Services of Texas, Inc., Austin, TX, Department of Agriculture, Farm Service Agency, 6501 Beacon Drive, Kansas City, MO.

NPA: Independence and Blue Springs Industries, Inc., Independence, MO.

Contracting Activity: DEPARTMENT OF AGRICULTURE, FARM SERVICE AGENCY, KANSAS CITY ACQUISITION BRANCH, KANSAS CITY, MO.

Service Type/Location: Recycling Service, Goodfellow Air Force Base: Basewide, Goodfellow AFB, TX.

NPA: MHMR Services for the Concho Valley, San Angelo, TX.

Contracting Activity: DEPT. OF THE AIR FORCE, FA3030 17 CONS CC, GOODFELLOW AFB, TX.

Patricia Briscoe,
Deputy Director, Business Operations (Pricing and Information Management).

[FR Doc. 2011-21242 Filed 8-18-11; 8:45 am]

BILLING CODE 6353-01-P